DEPARTMENT OF HEALTH AND HUMAN SERVICES

Centers for Disease Control and Prevention

Interagency Committee on Smoking and Health (ICSH)

In accordance with section 10(a) (2) of the Federal Advisory Committee Act (Pub. L. 92-463), the Centers for Disease Control and Prevention (CDC) announces the following Meeting of the aforementioned committee:

DATES: Time and Date: 9:00 a.m.-4:30 p.m., January 29, 2013.

Place: Capital Hilton, Federal AB Rooms, 1001 16th Street NW., Washington, DC 20036-5701, Telephone: (202) 393-1000.

Status

Open to the public, limited only by the space available. Those who wish to attend are encouraged to register with the contact person listed below. If you will require a sign language interpreter, or have other special needs, please notify the contact person by 4:30 p.m., EST on January 22, 2013.

Purpose

The ICSH advises the Secretary, Department of Health and Human Services, and the Assistant Secretary for Health in the (a) coordination of all research and education programs and other activities within the Department and with other federal, state, local and private agencies and (b) establishment and maintenance of liaison with appropriate private entities, federal agencies, and state and local public health agencies with respect to smoking and health activities.

Matters To Be Discussed

The topic of the meeting is “The Global Tobacco Control Experience”. The meeting will provide a review of global tobacco control efforts and best practices by the U.S. and global partners to inform U.S. domestic efforts as well as the U.S. efforts as a global partner.

Agenda items are subject to change as priorities dictate.

CONTACT PERSON FOR MORE INFORMATION: Ms. Monica L. Swann, Management and Program Analyst, Office on Smoking and Health, CDC, 395 E Street SW., Washington, DC 20024, Telephone: (202) 245-0552.

SUPPLEMENTARY INFORMATION: Substantive program information as well as summaries of the meeting and roster of committee members may be obtained from the internet at www.cdc.gov/tobacco in mid-March. The Director, Management Analysis and Services Office, has been delegated the authority to sign Federal Register notices pertaining to announcements of meetings and other committee management activities, for both the Centers for Disease Control and Prevention, and the Agency for Toxic Substances and Disease Registry.

Dated: December 19, 2012.
Elaine L. Baker,
Director, Management Analysis and Service Office, Centers for Disease Control and Prevention.

[FR Doc. 2012-31371 Filed 12-28-12; 8:45 am]

BILLING CODE 4163-18-P